DEPARTMENT OF JUSTICE

Notice of Proposed Administrative Settlement Order on Consent and Bona Fide Prospective Purchaser Agreement

The United States Department of Justice, on behalf of the Environmental Protection Agency (“United States”), proposes to enter into an Administrative Settlement Order on Consent and Bona Fide Prospective Purchaser Agreement (“BFPP Agreement”) with Star Forge, LLC (“Purchaser”) regarding real property located at 8531 East Marginal Way South in Seattle, Washington (the “Property”). The Property is located in and part of the “Lower Duwamish Waterway Superfund Site” (the “LDW Site”). Under the BFPP Agreement, Purchaser agrees to perform a removal action in accordance with the Comprehensive Environmental Response, Compensation, and Liability Act (“CERCLA”), 42 U.S.C. 9601-9675, at the Property. Additionally, Purchaser agrees to pay $500,000 to an escrow account to be established by Purchaser and dedicated to the ongoing cleanup of the LDW Site.

The proposed BFPP Agreement helps to ensure the timely performance of all response actions EPA has selected for the Property by specifying that the Purchaser cooperate with the United States to satisfy remaining obligations under an existing Administrative Order between EPA, the current owner of the Property (Jorgensen Forge Corporation, in bankruptcy), and an adjoining landowner. The BFPP Agreement also requires Purchaser to institute and abide by appropriate institutional controls at the Property and requires Purchaser to exercise due care in its future operations to ensure that those operations will not exacerbate or contribute to existing contamination.

In exchange, EPA provides the Buyer with a covenant not to sue for response costs, and potential response costs, incurred in connection with existing contamination at the Facility. The BFPP expressly reserves EPA's rights against the Purchaser for any activities that result in new releases of hazardous substances or aggravation of existing contamination at or from the Property. The proposed settlement, including the $500,000 payment, represents fair consideration for the covenant provided to the Purchaser, given the Purchaser's limited potential liability for existing contamination.

The publication of this notice opens a period for public comment on the proposed Administrative Settlement and Bona Fide Prospective Purchaser Agreement. Comments should be addressed to the Assistant Attorney General, Environment and Natural Resources Division, and should refer to In the Matter of Lower Duwamish Waterway Superfund Site, ADMINISTRATIVE SETTLEMENT ORDER ON CONSENT AND BONA FIDE PROSPECTIVE PURCHASER AGREEMENT, DJ Reference Number 90-11-3-07227/9. All comments must be submitted no later than seven (7) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Settlement Agreement and Bona Fide Prospective Purchaser Agreement may be examined and downloaded at this Justice Department Web site: http://www.justice.gov/enrd/consent_decrees.html. We will provide a paper copy of the Consent Decree upon written request and payment of reproduction costs. Please mail your request and payment to: Consent Decree Library, U.S. DOJ—ENRD, P.O. Box 7611, Washington, DC 20044-7611.

Please enclose a check or money order for $ 5.25 (25 cents per page reproduction cost, excluding attachments) payable to the United States Treasury.

Susan M. Akers,
Assistant Section Chief, Environmental Enforcement Section, Environment and Natural Resources Division.

[FR Doc. 2016-27624 Filed 11-16-16; 8:45 am]

BILLING CODE 4410-16-P